DEPARTMENT OF COMMERCE

National Oceanic and Atmospheric Administration

RIN 0648-XG353

Atlantic Highly Migratory Species; Meeting of the Atlantic Highly Migratory Species Advisory Panel

AGENCY: National Marine Fisheries Service (NMFS), National Oceanic and Atmospheric Administration (NOAA), Commerce.

ACTION: Notice of public meeting and webinar/conference call.

SUMMARY: NMFS will hold a 2-day Atlantic Highly Migratory Species (HMS) Advisory Panel (AP) meeting in September 2018. The intent of the meeting is to consider options for the conservation and management of Atlantic HMS. The meeting is open to the public.

DATES: The AP meeting and webinar will be held from 8:30 a.m. to 6 p.m. on Wednesday, September 5, and from 8:30 a.m. to 3 p.m. on Thursday, September 6.

ADDRESSES: The meeting will be held at the Sheraton Silver Spring Hotel, 8777 Georgia Avenue, Silver Spring, MD 20910.

The meeting on Wednesday, September 5, and Thursday, September 6, will also be accessible via conference call and webinar. Conference call and webinar access information are available at: https://www.fisheries.noaa.gov/event/september-2018-hms-advisory-panel-meeting. Once finalized, the meeting agenda, presentations/supplemental materials, and the meeting transcripts will be posted to this same site.

Participants are strongly encouraged to log/dial in 15 minutes prior to the meeting. NMFS will show the presentations via webinar and allow public comment during identified times on the agenda.

FOR FURTHER INFORMATION CONTACT: Peter Cooper or Brad McHale at (301) 427-8503.

SUPPLEMENTARY INFORMATION: The Magnuson-Stevens Fishery Conservation and Management Act, 16 U.S.C. 1801 et seq., as amended by the Sustainable Fisheries Act, Public Law 104-297, provided for the establishment of an AP to assist in the collection and evaluation of information relevant to the development of any FMP or FMP amendment for Atlantic HMS. NMFS consults with and considers the comments and views of AP members when preparing and implementing FMPs or FMP amendments for Atlantic tunas, swordfish, billfish, and sharks.

The AP has previously consulted with NMFS on: Amendment 1 to the Billfish FMP (April 1999); the HMS FMP (April 1999); Amendment 1 to the HMS FMP (December 2003); the Consolidated HMS FMP (October 2006); and Amendments 1, 2, 3, 4, 5a, 5b, 6, 7, 8, 9, 10, and 11 to the 2006 Consolidated HMS FMP (April and October 2008, February and September 2009, May and September 2010, April and September 2011, March and September 2012, January and September 2013, April and September 2014, March and September 2015, and March, September, and December 2016, and May and September 2017), among other things.

The intent of this meeting is to consider alternatives for the conservation and management of all Atlantic tunas, swordfish, billfish, and shark fisheries. We anticipate discussing:

• Short- and long-term management of Atlantic shortfin mako (emergency rule extension and Draft Amendment 11);

• Bluefin tuna management (Three-year review of Amendment 7 measures and next steps)

• Progress updates on a number of other actions such as Ecosystem-Based Fisheries Management; Amendment 12 (rulemaking to implement NMFS national policy directives); weak-hook and area based management; cross-regional vessel electronic reporting (e.g., eVTR, SEFHIER, eTrips); and spatial management options.

• Shark management in general (Amendment 14 regarding quota management; catch-per-unit-effort for sharks; and shark stock assessments)

We also anticipate inviting other NMFS offices to provide updates, if available, on their activities relevant to HMS fisheries such as updates to the Marine Recreational Information Program. The State Department will be invited to provide updates on U.S./Bahama EEZ boundary negotiations. Finally, we intend to invite other NMFS offices and the United States Coast Guard to provide updates on their activities relevant to HMS fisheries.

Additional information on the meeting and a copy of the draft agenda will be posted prior to the meeting at: https://www.fisheries.noaa.gov/event/september-2018-hms-advisory-panel-meeting.

Special Accommodations

This meeting is physically accessible to people with disabilities. Requests for sign language interpretation or other auxiliary aids should be directed to Peter Cooper at (301) 427-8503 at least 7 days prior to the meeting.

Dated: July 30, 2018.
Margo B. Schulze-Haugen,
Acting Director, Office of Sustainable Fisheries, National Marine Fisheries Service.

[FR Doc. 2018-16580 Filed 8-1-18; 8:45 am]

BILLING CODE 3510-22-P